DEPARTMENT OF JUSTICE

Notice of Lodging of Consent Decree Under the Clean Air Act

On November 9, 2017, the Department of Justice lodged a proposed Consent Decree with the United States District Court for the Western District of Washington in United States v. United States Seafoods LLC, Seafreeze Alaska I LLC, and Alaska Alliance LLC, Civil Action No. 17-civ-01677.

The Consent Decree settles claims brought by the United States for violations of the Clean Air Act and federal regulations promulgated thereunder with respect to refrigeration equipment owned and operated by Defendants on two commercial fishing vessels. Under the Consent Decree, Defendant will undertake measures to prevent future similar violations and pay a civil penalty of $135,000.

The publication of this notice opens a period for public comment on the proposed Consent Decree. Comments should be addressed to the Assistant Attorney General, Environment and Natural Resources Division, and should refer to United States v. United States Seafoods LLC, Seafreeze Alaska I LLC, and Alaska Alliance LLC, D.J. Ref. No. 90-5-2-1-11506. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $55 (25 cents per page reproduction cost) payable to the United States Treasury.

Susan M. Akers,
Assistant Section Chief, Environmental Enforcement Section, Environment and Natural Resources Division.

[FR Doc. 2017-24677 Filed 11-14-17; 8:45 am]

BILLING CODE 4410-15-P